DEPARTMENT OF HOUSING AND URBAN DEVELOPMENT

[Docket No. FR-5187-N-30]

Application and Reporting for Hospital Project Mortgage Insurance/Section 242

AGENCY: Office of the Chief Information Officer, HUD.

ACTION: Notice.

SUMMARY: The proposed information collection requirement described below has been submitted to the Office of Management and Budget (OMB) for review, as required by the Paperwork Reduction Act. The Department is soliciting public comments on the subject proposal.

This information in the 92013 form is necessary (a) to determine the viability of a hospital applicant's proposal for mortgage insurance: basic eligibility criteria; underwriting standards; feasibility study; and adequacy of state and/or local certifications, approvals, or waivers and (b) to regulate and monitor hospitals with insured mortgage loans. The 93305 form is needed to insure proper recordation of project costs, identify and monitor identify of interests between the Mortgagor and General Contractor, subcontractors, suppliers, or equipment lessors and agree upon procedures when such identity of interests arise, and to insure conformity with the National Housing Act and its Regulations.

DATES: Comments Due Date: June 12, 2008.

ADDRESSES: Interested persons are invited to submit comments regarding this proposal. Comments should refer to the proposal by name and/or OMB approval Number (2502-0518) and should be sent to: HUD Desk Officer, Office of Management and Budget, New Executive Office Building, Washington, DC 20503; fax: 202-395-6974.

FOR FURTHER INFORMATION CONTACT: Lillian Deitzer, Reports Management Officer, QDAM, Department of Housing and Urban Development, 451 Seventh Street, SW., Washington, DC 20410; e-mail Lillian Deitzer at Lillian_L_Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Application and Reporting for Hospital Project Mortgage Insurance/Section 242.

OMB Approval Number: 2502-0518.

Form Numbers: HUD-92013-HOSP, HUD-93305-M-H.

Description of the Need for the Information and its Proposed Use: This information in the 92013 form is necessary (a) to determine the viability of a hospital applicant's proposal for mortgage insurance: basic eligibility criteria; underwriting standards; feasibility study; and adequacy of state and/or local certifications, approvals, or waivers and (b) to regulate and monitor hospitals with insured mortgage loans. The 93305 form is needed to insure proper recordation of project costs, identify and monitor identify of interests between the Mortgagor and General Contractor, subcontractors, suppliers, or equipment lessors and agree upon procedures when such identity of interests arise, and to insure conformity with the National Housing Act and its Regulations.

Frequency of Submission: On occasion, quarterly, annually.

| Number of respondents | Annual responses | × | Hours per response | = | Burden hours
Reporting Burden | 18 | 2 |  | 487 |  | 17,566

Total Estimated Burden Hours: 17,566.

Status: Revision of a currently approved collection.

Authority: Section 3507 of the Paperwork Reduction Act of 1995, 44 U.S.C. 35, as amended.

Dated: May 6, 2008.
Lillian L. Deitzer,
Departmental Paperwork Reduction Act Officer, Office of the Chief Information Officer.

[FR Doc. E8-10532 Filed 5-12-08; 8:45 am]

BILLING CODE 4210-67-P